DEPARTMENT OF ENERGY

Federal Energy Regulatory Commission

Combined Notice of Filings #1

December 19, 2007.

Take notice that the Commission received the following electric corporate filings:

Docket Numbers: EC08-23-000.

Applicants: Williams Gas Marketing, Inc.; Bear Energy LP.

Description: Williams Gas Marketing, Inc and Bear Energy, LP submits a joint application for authorization of the disposition of jurisdictional facilities.

Filed Date: 12/14/2007.

Accession Number: 20071217-0137.

Comment Date: 5 p.m. Eastern Time on Friday, January 4, 2008.

Docket Numbers: EC08-25-000.

Applicants: Consolidated Edison Co. of New York, Inc.

Description: Request of Consolidated Edison Company of New York, Inc. for Authorization to Acquire Short-Term Debt.

Filed Date: 12/12/2007.

Accession Number: 20071212-5094.

Comment Date: 5 p.m. Eastern Time on Wednesday, January 2, 2008.

Take notice that the Commission received the following electric rate filings:

Docket Numbers: ER96-2601-020; ER96-2602-009.

Applicants: DPL Energy, LLC; Dayton Power and Light Company, The

Description: Market Power Analysis of The Dayton Power and Light Company and DPL Energy, LLC.

Filed Date: 12/17/2007.

Accession Number: 20071217-5080.

Comment Date: 5 p.m. Eastern Time on Monday, January 7, 2008.

Docket Numbers: ER97-1481-011.

Applicants: Idaho Power Company.

Description: Idaho Power Co submits an amendment to its Market Rate Power Sale Tariff, First Revised Volume 6.

Filed Date: 12/14/2007.

Accession Number: 20071217-0146.

Comment Date: 5 p.m. Eastern Time on Friday, January 4, 2008.

Docket Numbers: ER98-2640-022; ER98-4590-020; ER99-1610-028; ER01-205-024.

Applicants: Northern States Power Company; Public Service Company of Colorado; New Century Pub Svc Co of CO; Xcel Energy Services Inc.

Description: Xcel Energy Services Inc submits a change in status report and appendix identifying generation assets.

Filed Date: 12/14/2007.

Accession Number: 20071217-0145.

Comment Date: 5 p.m. Eastern Time on Friday, January 4, 2008.

Docket Numbers: ER02-1437-005; ER02-1785-013.

Applicants: Triton Power Michigan LLC; Thermo Cogeneration Partnership LP.

Description: Triton Power Michigan LLC et al submits a supplement to its 11/9/07 submittal of a notice of non-material change in status.

Filed Date: 12/17/2007.

Accession Number: 20071218-0116.

Comment Date: 5 p.m. Eastern Time on Monday, January 7, 2008.

Docket Numbers: ER03-534-005.

Applicants: Ingenco Wholesale Power, L.L.C.

Description: INGENCO Wholesale Power L.L.C. submits list of energy affiliates re notice of change in status.

Filed Date: 12/14/2007.

Accession Number: 20071214-5005.

Comment Date: 5 p.m. Eastern Time on Friday, January 4, 2008.

Docket Numbers: ER06-635-002; ER95-1007-021; ER99-3320-006; ER00-2235-003; ER01-2741-006; ER06-634-002; ER07-34-003.

Applicants: Edgecombe Genco, LLC; Rathdrum Power, LLC; Logan Generating Company, LP; Ouachita Power, LLC; Plains End, LLC; Spruance Genco, LLC; Plains End II, LLC; Shady Hills Power Company, L.L.C.; Fox Energy Company LLC

Description: Edgecombe Genco, LLC et al submits a notice of non-material change in status.

Filed Date: 12/14/2007.

Accession Number: 20071217-0142.

Comment Date: 5 p.m. Eastern Time on Friday, January 4, 2008.

Docket Numbers: ER06-738-007; ER06-739-007; ER07-501-003; ER07-758-002; ER03-983-006; ER02-537-010.

Applicants: Cogen Technologies Linden Venture, L.P.; East Coast Power Linden Holding, LLC; Birchwood Power Partners, L.P.; Fox Energy Company LLC; Shady Hills Power Company, L.L.C.; Inland Empire Energy Center, L.L.C.

Description: The GE Companies submit a notice of change in status.

Filed Date: 12/14/2007.

Accession Number: 20071218-0122.

Comment Date: 5 p.m. Eastern Time on Friday, January 4, 2008.

Docket Numbers: ER06-758-003.

Applicants: Chambers Cogeneration LP.

Description: Chambers Cogeneration, L.P. submits a notice on non-material change in status.

Filed Date: 12/14/2007.

Accession Number: 20071218-0123.

Comment Date: 5 p.m. Eastern Time on Friday, January 4, 2008.

Docket Numbers: ER06-759-002.

Applicants: Selkirk Cogen Partners, L.P.

Description: Selkirk Cogen Partners, LP submits a non-material change in status.

Filed Date: 12/14/2007.

Accession Number: 20071218-0113.

Comment Date: 5 p.m. Eastern Time on Friday, January 4, 2008.

Docket Numbers: ER07-1304-001.

Applicants: California Independent System Operator Corporation

Description: California Independent System Operator Corp's compliance filing.

Filed Date: 12/14/2007.

Accession Number: 20071217-0149.

Comment Date: 5 p.m. Eastern Time on Friday, January 4, 2008.

Docket Numbers: ER07-576-005.

Applicants: Baltimore Gas and Electric Company.

Description: Baltimore Gas and Electric Co's revised Attachment H-2 tariff sheets for incorporation into PJM Interconnection, LLC's Open Access Transmission Tariff, effective 6/1/07.

Filed Date: 12/17/2007.

Accession Number: 20071219-0161.

Comment Date: 5 p.m. Eastern Time on Monday, January 7, 2008.

Docket Numbers: ER07-805-003; ER07-1304-001.

Applicants: California Independent System Operator Corporation

Description: California Independent System Operator Corp's compliance filing.

Filed Date: 12/14/2007.

Accession Number: 20071217-0149.

Comment Date: 5 p.m. Eastern Time on Friday, January 4, 2008.

Docket Numbers: ER07-1172-002; ER07-1315-002.

Applicants: Idaho Power Company.

Description: Idaho Power Co submits Substitute First Revised Sheet 82 et al. to FERC Electric Tariff, First Revised Volume 6, effective 7/13/07.

Filed Date: 12/17/2007.

Accession Number: 20071218-0115.

Comment Date: 5 p.m. Eastern Time on Monday, January 7, 2008.

Docket Numbers: ER07-1186-001; ER08-350-000.

Applicants: PJM Interconnection, L.L.C.

Description: PJM Interconnection, L.L.C. submits its compliance filing, pursuant to FERC's 10/18/07.

Filed Date: 12/17/2007.

Accession Number: 20071219-0162.

Comment Date: 5 p.m. Eastern Time on Monday, January 7, 2008.

Docket Numbers: ER08-125-003.

Applicants: Luminant Energy Company LLC.

Description: Luminant Energy Co. LLC submits revised sheets to its market-based rate tarriff to reflect a recent succession and name change.

Filed Date: 12/14/2007.

Accession Number: 20071217-0148.

Comment Date: 5 p.m. Eastern Time on Friday, January 4, 2008.

Docket Numbers: ER08-191-002.

Applicants: Aquila, Inc.

Description: Aquila, Inc submits a supplement to the 11/6/07 filing of the Amended and Restated Coordinating Agreement for the Cooper-Fairport—St. Josephs 345 kV Interconnection.

Filed Date: 12/14/2007.

Accession Number: 20071217-0200.

Comment Date: 5 p.m. Eastern Time on Friday, January 4, 2008.

Docket Numbers: ER08-201-001.

Applicants: Cogentrix Virginia Leasing Corporation.

Description: Cogentrix Virginia Leasing Corp submits a supplement to its 11/9/07 filing of a market-based rate application.

Filed Date: 12/14/2007.

Accession Number: 20071217-0144.

Comment Date: 5 p.m. Eastern Time on Friday, January 4, 2008.

Docket Numbers: ER08-202-001.

Applicants: James River Cogeneration Company.

Description: James River Cogeneration Co, LLC submits a supplement to its 11/9/07 filing of a market-based rate application.

Filed Date: 12/14/2007.

Accession Number: 20071217-0143.

Comment Date: 5 p.m. Eastern Time on Friday, January 4, 2008.

Docket Numbers: ER08-284-000.

Applicants: Argo Navis Fundamental Power Fund, L.P.

Description: Argo Navis Fundamental Power Fund, L.P. submits Petition for Acceptance of Initial Tariff, Waivers and Blanket Authority, FERC Electric Tariff, Original Volume 1.

Filed Date: 12/03/2007.

Accession Number: 20071204-0064.

Comment Date: 5 p.m. Eastern Time on Wednesday, December 26, 2007.

Docket Numbers: ER08-333-000.

Applicants: Las Vegas Cogeneration LP.

Description: Application of Las Vegas Cogeneration Limited Partnership for order accepting initial market-based rate tariff, waving regulations and granting blanket approvals.

Filed Date: 12/14/2007.

Accession Number: 20071217-0196.

Comment Date: 5 p.m. Eastern Time on Friday, January 4, 2008.

Docket Numbers: ER08-334-000.

Applicants: New York Independent System Operator, Inc.

Description: The New York Independent System Operator, Inc submits its revisions to its Open Access Transmission Tariff etc.

Filed Date: 12/14/2007.

Accession Number: 20071217-0197.

Comment Date: 5 p.m. Eastern Time on Friday, January 4, 2008.

Docket Numbers: ER08-335-000.

Applicants: Florida Power & Light Company.

Description: Florida Power & Light Co submits Rate Schedule 312, Short-Term Agreement with Lee County Electric Cooperative, Inc.

Filed Date: 12/14/2007.

Accession Number: 20071217-0198.

Comment Date: 5 p.m. Eastern Time on Friday, January 4, 2008.

Docket Numbers: ER08-336-000.

Applicants: Sithe Energy Marketing, L.P.

Description: Sithe Energy Marketing, LP submits a notice of cancellation.

Filed Date: 12/14/2007.

Accession Number: 20071217-0199.

Comment Date: 5 p.m. Eastern Time on Friday, January 4, 2008.

Docket Numbers: ER08-337-000.

Applicants: Watson Cogeneration Company.

Description: Application of Waston Cogeneration Co for order accepting initial market-based rate tariff, waving regulations and granting blanket approvals.

Filed Date: 12/14/2007.

Accession Number: 20071217-0147.

Comment Date: 5 p.m. Eastern Time on Friday, January 4, 2008.

Docket Numbers: ER08-338-000.

Applicants: Nexen Marketing.

Description: Nexen Marketing USA, Inc submits an application for Market-Based Rate Authority and request for Associated Waivers and Blanket Approvals.

Filed Date: 12/17/2007.

Accession Number: 20071218-0110.

Comment Date: 5 p.m. Eastern Time on Monday, January 7, 2008.

Docket Numbers: ER08-339-000.

Applicants: PJM Interconnection, L.L.C.

Description: PJM Interconnection, LLC submits Seventh Revised Sheet 229 et al to FERC Electric Tariff, Sixth Revised Volume 1.

Filed Date: 12/17/2007.

Accession Number: 20071218-0111.

Comment Date: 5 p.m. Eastern Time on Monday, January 7, 2008.

Docket Numbers: ER08-340-000.

Applicants: Southwest Power Pool, Inc.

Description: Southwest Power Pool, Inc submits a compliance filing revising tariff sheets related to Energy Imbalance market.

Filed Date: 12/14/2007.

Accession Number: 20071218-0112.

Comment Date: 5 p.m. Eastern Time on Friday, January 4, 2008.

Docket Numbers: ER08-341-000.

Applicants: American Electric Power Service Corporation.

Description: American Electric Power Service Corp submits Second Revised Interconnection and Local Delivery Service Agreement with the Village of Plymouth.

Filed Date: 12/17/2007.

Accession Number: 20071218-0114.

Comment Date: 5 p.m. Eastern Time on Monday, January 7, 2008.

Docket Numbers: ER08-342-000.

Applicants: Duke Energy Indiana, Inc.

Description: Duke Energy Indiana, Inc submits a Notice of Cancellation of their Power Supply Agreement with Wabash Valley Power Association, Inc.

Filed Date: 12/18/2007.

Accession Number: 20071219-0163.

Comment Date: 5 p.m. Eastern Time on Tuesday, January 8, 2008.

Take notice that the Commission received the following electric securities filings:

Docket Numbers: ES08-11-000.

Applicants: Central Maine Power Company.

Description: Application of Central Maine Power Co for authorization to issue short-term debt under Section 204 of the Federal Power Act.

Filed Date: 12/12/2007.

Accession Number: 20071214-0012.

Comment Date: 5 p.m. Eastern Time on Wednesday, January 2, 2008.

Take notice that the Commission received the following open access transmission tariff filings:

Docket Numbers: OA08-61-000.

Applicants: Southwest Power Pool, Inc.

Description: Southwest Power Pool, Inc submits First Revised Sheet 295 et al to FERC Electric Tariff, Fifth Revised Volume 1, effective 12/14/07.

Filed Date: 12/14/2007.

Accession Number: 20071218-0124.

Comment Date: 5 p.m. Eastern Time on Friday, January 4, 2008.

Take notice that the Commission received the following electric reliability filings:

Docket Numbers: RR07-16-001.

Applicants: North American Electric Reliability Corp.

Description: Compliance Filing of the North American Electric Reliability Corporation in Response to October 18 2007 Order.

Filed Date: 12/14/2007.

Accession Number: 20071214-5037.

Comment Date: 5 p.m. Eastern Time on Monday, January 14, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Director.

[FR Doc. E7-25345 Filed 12-28-07; 8:45 am]

BILLING CODE 6717-01-P